DEPARTMENT OF THE INTERIOR

Bureau of Reclamation

[RR02015200, 14XR0687NA, RX185279076000000]

Notice of Availability of a Draft Environmental Impact Statement and Notice of Public Meeting for the Cle Elum Pool Raise, Kittitas County, Washington

AGENCY: Bureau of Reclamation, Interior.

ACTION: Notice.

SUMMARY: The Bureau of Reclamation has made available for public review and comment the Cle Elum Pool Raise Draft Environmental Impact Statement (EIS). The Draft EIS describes the potential environmental effects of the No Action Alternative and four action alternatives to modify the existing radial gates in the Cle Elum Dam spillway to provide an additional 14,600 acre-feet of storage capacity in Cle Elum Reservoir, put the additional stored water to beneficial use, provide for shoreline protection of the reservoir, and implement necessary environmental mitigation.

DATES: Send written comments on the Draft EIS on or before November 24, 2014.

Two public meetings will be held on the following dates:

1. Tuesday, October 21, 2014, 4 p.m. to 7 p.m., Ellensburg, WA.

2. Wednesday, October 22, 2014, 4 p.m. to 7 p.m., Cle Elum, WA.

ADDRESSES: Send written comments or requests for copies to Ms. Candace McKinley, Bureau of Reclamation, 1917 Marsh Road, Yakima, WA 98901, 509-575-5848, ext. 613, or via email to cepr@usbr.gov. The Draft EIS is also accessible from the following Web site: http://www.usbr.gov/pn/programs/eis/cleelumraise/index.html.

The public meeting locations are:

1. Ellensburg—Hal Holmes Community Center, 209 N. Ruby Street, Ellensburg, Washington 98926;

2. Cle Elum—U.S. Forest Service, Cle Elum Ranger District, Tom Craven Conference Room, 803 W. 2nd Street, Cle Elum, Washington 98922.

FOR FURTHER INFORMATION CONTACT: Ms. Candace McKinley, 509-575-5848, ext. 613; or by email at cepr@usbr.gov.

SUPPLEMENTARY INFORMATION: The Draft EIS documents the potential direct, indirect, and cumulative physical, biological, and socioeconomic environment effects that may result from increasing the reservoir storage capacity.

The Draft EIS evaluates the construction and operation of modified radial gates at Cle Elum Dam to enable a 3-foot raise in the reservoir pool (14,600 acre-feet additional storage capacity), use of the additional stored water to improve instream flows or to supplement the Yakima Project Total Water Supply Available, raising the height of three existing dikes, raising the height of access roads and facilities at the U.S. Forest Service Cle Elum River Campground and Wish-Poosh boat ramp, implementing shoreline protection to reduce erosion, and acquiring private property and easements to accommodate shoreline protection. The primary project objectives are to: (1) Fulfill the intent of the congressional authorization given in Sections 1205 and 1206, Title XII, Yakima River Basin Water Enhancement Project (YRBWEP), of Public Law 103-434, Yavapai-Prescott Indian Tribe Water Rights Settlement Act of 1994; (2) improve aquatic resources for fish habitat, rearing, and migration in the Cle Elum and upper Yakima Rivers; and (3) (if authorized by congress) help meet demands for agricultural water supply.

The primary study area encompasses the Cle Elum Reservoir, the adjacent area that would be inundated by the proposed 3-foot raise in the full-pool reservoir level, and areas that could be directly affected by construction or operations-related activities, including the spillway gates, dikes, adjacent lands, and public recreation resources. The extended study area includes the Cle Elum and Yakima rivers downstream from Cle Elum Dam; lands, municipalities, and instream uses served by Cle Elum and Yakima rivers water rights; and the larger Yakima Project area.

Authority

The YRBWEP, of which the Cle Elum Pool Raise is one component, was authorized in Sections 1205 and 1206 of Title XII of the Yavapai-Prescott Indian Tribe Water Rights Settlement Act of 1994.

Public Review of Draft EIS

Copies of the Draft EIS are available for public review at the following locations:

1. Bureau of Reclamation, Columbia-Cascades Area Office, 1917 Marsh Road, Yakima, Washington 98901.

2. Washington State Department of Ecology, 15 W. Yakima Avenue, Suite 200, Yakima, Washington 98902.

Libraries

1. Carpenter Memorial Library, 302 N. Pennsylvania Ave., Cle Elum, WA 98922.

2. Ellensburg Public Library, 209 N. Ruby St., Ellensburg, WA 98926.

3. Roslyn Public Library, 201 S. First St., Roslyn, WA 98941.

4. Benton City Library, 810 Horne Dr., Benton City, WA 99320.

5. Kennewick Library, 1620 S. Union St., Kennewick, WA 99338.

6. Kittitas Public Library, 200 N. Pierce St., Kittitas, WA 98934.

7. Mid-Columbia Library, 405 S. Dayton St., Kennewick, WA 99336.

8. Pasco Library, 1320 W. Hopkins St., Pasco, WA 99301.

9. Prosser Library, 902 7th St., Prosser, WA 99350.

10. Richland Public Library, 955 Northgate Drive, Richland, WA 99352.

11. Sunnyside Public Library, 621 Grant Ave., Sunnyside, WA 98944.

12. Toppenish Library, 1 S. Elm St., Toppenish, WA 98948.

13. Wapato Library, 119 E. 3rd St., Wapato, WA 98951.

14. Washington State Library, Point Plaza East, 6880 Capitol Blvd. SE., Tumwater, WA 98504.

15. West Richland Library, 3803 W. Van Giesen St., Richland, WA 99353.

16. Yakama Nation Library, 100 Spiel-Yi Loop, Toppenish, WA 98948.

17. Yakima Valley Regional Library, 102 N. 3rd St., Yakima, WA 98901.

Special Assistance for Public Meetings

If special assistance is required at the public meetings, please contact Ms. Candace McKinley, at cepr@usbr.gov or 509-575-5848, ext. 613. Please notify Ms. McKinley as far in advance of the meeting as possible to enable Reclamation to secure the needed services. If a request cannot be honored, the requestor will be notified. TTY users may dial 711 to obtain a toll-free TTY relay.

Public Disclosure

Before including your address, phone number, email address, or other personal identifying information in your comment, you should be aware that your entire comment—including your personal identifying information—may be made publicly available at any time. While you can ask us in your comment to withhold your personal identifying information from public review, we cannot guarantee that we will be able to do so.

Dated: September 17, 2014.
Lorri J. Lee,
Regional Director, Pacific Northwest Region.

[FR Doc. 2014-22592 Filed 9-22-14; 8:45 am]

BILLING CODE 4310-MN-P